ENVIRONMENTAL PROTECTION AGENCY

[EPA-HQ-OPP-2021-0513; FRL-9573-01-OCSPP]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1, Table 1A and Table 2 of Unit II, pursuant to the Federal Insecticide, Fungicide, and Rodenticide Act (FIFRA). This cancellation order follows an October 25, 2021, Federal Register Notice of Receipt of Requests from the registrants listed in Table 3 of Unit II, to voluntarily cancel and amend to terminate uses of these product registrations. In the October 25, 2021, notice, EPA indicated that it would issue an order implementing the cancellations and amendments to terminate uses, unless the Agency received substantive comments within the 30-day comment period that would merit its further review of these requests, or unless the registrants withdrew their requests. The Agency received two comments on the notice; one general comment concerning pesticides in general that did not directly apply to this notice, so no action or response was needed and the second merited its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective March 1, 2022.

FOR FURTHER INFORMATION CONTACT: Christopher Green, Registration Division (7502P), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0513, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the Agency taking?

This notice announces the cancellations and amendments to terminate uses, as requested by registrants, of products registered under FIFRA section 3 (7 U.S.C. 136a). These registrations are listed in sequence by registration number in Table 1, Table 1A, and Table 2 of this unit.

Table 1—Product Cancellations
Registration No. | Company No. | Product name | Active ingredients
279-3125 | 279 | Fury 1.5 EC Insecticide | Zeta-Cypermethrin.
279-3248 | 279 | Z-Cype 0.8 EW Insecticide | Zeta-Cypermethrin.
279-3249 | 279 | Z-Cype 0.8 EC Insecticide | Zeta-Cypermethrin.
279-3297 | 279 | 0.344% F0570 OTC Granular Insecticide | Zeta-Cypermethrin.
279-3298 | 279 | 0.258% F0570 OTC Granular Insecticide | Zeta-Cypermethrin.
279-3299 | 279 | 0.129% F0570 OTC Granular Insecticide | Zeta-Cypermethrin.
279-3327 | 279 | Zeta-Cype 0.8EC Insecticide | Zeta-Cypermethrin.
279-3328 | 279 | Zeta-Cype 0.8EW Insecticide | Zeta-Cypermethrin.
279-3381 | 279 | Zeta-Cype 0.8 EC HSL Insecticide | Zeta-Cypermethrin.
2693-190 | 2693 | Micron CSC Super with Bio-Lux Blue | Cuprous oxide & 1,3,5-Triazine-2,4-diamine, N-cyclopropyl-N′-(1,1-dimethylethyl)-6-(methylthio)-.
2693-197 | 2693 | VC 17M with Biolux Original | 1,3,5-Triazine-2,4-diamine, N-cyclopropyl-N′-(1,1-dimethylethyl)-6-(methylthio)-.
2693-198 | 2693 | VC 17M with Biolux Red | 1,3,5-Triazine-2,4-diamine, N-cyclopropyl-N′-(1,1-dimethylethyl)-6-(methylthio)-.
9688-295 | 9688 | Chemsico Fire Ant Killer 6B | Bifenthrin.
33270-12 | 33270 | Tremor | Acetochlor.
34704-887 | 34704 | Cypermethrin 25 | Cypermethrin.
34704-897 | 34704 | Cypro Termiticide/Insecticide | Cypermethrin.
42750-106 | 42750 | Acetochlor 4.3 + ATZ 1.7 | Atrazine & Acetochlor.
42750-108 | 42750 | Acetochlor 3.1 + ATZ 2.5 | Atrazine & Acetochlor.
42750-201 | 42750 | Fluroxypyr + Clopyralid | Fluroxypyr-meptyl & Clopyralid, monoethanolamine salt.
42750-203 | 42750 | Fluroxypyr + 2,4-D | 2,4-D, 2-ethylhexyl ester & Fluroxypyr-meptyl.
42750-204 | 42750 | Fluroxypyr 26.2% EC | Fluroxypyr-meptyl.
55467-17 | 55467 | Volunteer 2EC Herbicide | Clethodim.
62719-536 | 62719 | Starane NXTCP | Bromoxynil octanoate & Fluroxypyr-meptyl.
71173-1 | 71173 | Acrocide | Acrolein.
71173-2 | 71173 | AcroCide H Herbicide | Acrolein.
ID-080005 | 62719 | Starane NXT | Bromoxynil octanoate & Fluroxypyr-meptyl.
ID-130010 | 34704 | Colt CF Herbicide | Clopyralid & Fluroxypyr-meptyl.
FL-090011 | 279 | Mustang Insecticide | Zeta-Cypermethrin.
FL-100002 | 279 | Mustang Insecticide | Zeta-Cypermethrin.
KS-120001 | 55467 | Tenkoz Atrazine 4L Herbicide | Atrazine.
NE-130001 | 279 | F9114 EC Insecticide | Zeta-Cypermethrin.
TX-100011 | 279 | Mustang Insecticide | Zeta-Cypermethrin.
TX-100012 | 279 | Mustang Insecticide | Zeta-Cypermethrin.
WI-180008 | 279 | F9114 EC Insecticide | Zeta-Cypermethrin.

Table 1A—Product Cancellations
Registration No. | Company No. | Product name | Active ingredients
100-1431 | 100 | Gramoxone SL 2.0 | Paraquat dichloride.

The registrant of the registration listed in Table 1A, has requested the date of March 30, 2022, for the effective date of cancellation.

Table 2—Product Registration Amendments to Terminate Uses
Registration No. | Company No. | Product name | Active ingredient | Uses to be terminated
19713-97 | 19713 | Drexel Linuron 4L | Linuron | Post-harvest, crop stubble, fallow ground stale seedbed (under soybean use directions).
19713-158 | 19713 | Linuron Flake Technical | Linuron | Terrestrial Non-Cropland Uses (such as roadsides and fencerows).
19713-251 | 19713 | Drexel Linuron DF | Linuron | Non-crop weed control (on all non-cropland areas including roadsides and fencerows).
19713-368 | 19713 | Drexel Linuron Technical 2 | Linuron | Terrestrial Non-Cropland Uses (such as roadsides and fencerows).

Table 3 of this unit includes the names and addresses of record for all registrants of the products in Table 1, Table 1A and Table 2 of this unit, in sequence by EPA company number. This number corresponds to the first part of the EPA registration numbers of the products listed above.

Table 3—Registrants of Cancelled and Amended Products
EPA company No. | Company name and address
100 | Syngenta Crop Protection, LLC, 410 Swing Road, P.O. Box 18300, Greensboro, NC 27419-8300.
279 | FMC Corporation, 2929 Walnut Street, Philadelphia, PA 19104.
2693 | International Paint, LLC, 6001 Antoine Drive, Houston, TX 77091.
9688 | Chemsico, A Division of United Industries Corp., One Rider Trail Plaza Drive, Suite 300, Earth City, MO 63045-1313.
19713 | Drexel Chemical Company, P.O. Box 13327, Memphis, TN 38113-0327.
33270 | Winfield Solutions, LLC, P.O. Box 64589, St. Paul, MN 55164-0589.
34704 | Loveland Products, Inc., P.O. Box 1286, Greeley, CO 80632-1286.
42750 | Albaugh, LLC, 1525 NE 36th Street, Ankeny, IA 50021.
55467 | Tenkoz, Inc., 1725 Windward Concourse, Suite 410, Alpharetta, GA 30005.
62719 | Corteva Agriscience, LLC, 9330 Zionsville Road, Indianapolis, IN 46268.
71173 | Multi-Chem Group, LLC—Odessa, 6155 W Murphy St., Odessa, TX 79763-7511.

III. Summary of Public Comments Received and Agency Response to Comments

The Agency received two comments on the notice, one general comment concerning pesticides in general that did not directly apply to this notice, so no action or response was needed, and the Agency does not believe the comment merits further review and the second comment merited its further review of the request. The second comment and the response from the Agency is below.

A. Comment

The Federal Register notice and docket provide inadequate information about how voluntary cancellation of Gramoxone SL 2.0 will conform to EPA's interim registration review decision for paraquat dichloride. Specifically, it is unclear whether existing stocks of Gramoxone SL 2.0 sold or distributed between March 30, 2022, and March 30, 2023, will bear a label that includes the additional restrictions on use set forth in EPA's interim decision. It would be inappropriate for EPA to approve any existing stocks provision that allows sale or distribution of product with labels that do not reflect the interim registration decision for paraquat dichloride. If the labels do not conform to that decision, the product would be misbranded because it would not contain directions EPA has deemed necessary to protect public health and the environment.

B. Response

The existing stocks provision for the voluntary cancellation of Gramoxone SL 2.0 is roughly consistent with the phase-out of existing labeling (and use of new labeling) that will occur in response to the Agency's interim decision for paraquat. The existing stocks provision for Gramoxone SL 2.0 permits the registrant to sell and distribute existing stocks of voluntarily canceled products for one year after the effective date of the cancellation, which will be March 30, 2023. Updated paraquat labels containing the additional restrictions from the interim decision are expected to be approved and stamped by the end of the 2022 calendar year. After the label approval, the registrants of the affected products must begin using the new labeling within 12 months of the label stamp date, roughly around the end of the 2023 calendar year.

Given that the interim decision labeling will not be in full effect until 2023, the continued sale and use of Gramoxone 2.0 with existing labels will be consistent with the implementation of the interim decision label language. Consequently, EPA has determined that the sale and use of existing stocks of Gramoxone 2.0 will not be inconsistent with the purposes of FIFRA.

IV. Cancellation Order

Pursuant to FIFRA section 6(f) (7 U.S.C. 136d(f)(1)), EPA hereby approves the requested cancellations and amendments to terminate uses of the registrations identified in Table 1, Table 1A and Table 2 of Unit II. Accordingly, the Agency hereby orders that the product registrations identified in Table 1, Table 1A and Table 2 of Unit II, are canceled and amended to terminate the affected uses. The effective date of the cancellations that are subject of this notice is March 1, 2022. The effective date of the cancellation in Table 1A will be March 30, 2022. Any distribution, sale, or use of existing stocks of the products identified in Table 1, Table 1A and Table 2 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of October 25, 2021 (86 FR 58906) (FRL-9119-01-OCSPP). The comment period closed on November 24, 2021.

VI. Provisions for Disposition of Existing Stocks

Existing stocks are those stocks of registered pesticide products which are currently in the United States, and which were packaged, labeled, and released for shipment prior to the effective date of the action. The existing stocks provision for the products subject to this order is as follows.

For the voluntary cancellation request in Table 1A, the registrant requested March 30, 2022, as the effective date of cancellation; therefore, the registrant may continue to sell and distribute existing stocks of products listed in Table 1A until March 30, 2023, which is 1 year after the effective date of the cancellation. Thereafter, the registrant is prohibited from selling or distributing products listed in Table 1A of Unit II, except for export in accordance with FIFRA section 17 (7 U.S.C. 136o) or for proper disposal.

For all other voluntary cancellations listed in Table 1, the registrants may continue to sell and distribute existing stocks of products listed in Table 1 until March 1, 2023, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until September 1, 2023, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: February 18, 2022.
Marietta Echeverria,
Acting Director, Registration Division, Office of Pesticide Programs.

[FR Doc. 2022-04232 Filed 2-28-22; 8:45 am]

BILLING CODE 6560-50-P